DEPARTMENT OF TRANSPORTATION

Office of the Secretary

Aviation Proceedings, Agreements Filed During Week Ending August 3, 2001

The following Agreements were filed with the Department of Transportation under provisions of 49 U.S.C. Sections 412 and 414. Answers may be filed within 21 days after the filing of the applications.

Docket Number: OST-2001-10275

Date Filed: July 30, 2001

Parties: Members of the International Air Transport Association

Subject:

PTC COMP 0841 dated 27 July 2001

Composite Expedited Resolutions 024d, 210 (including USA/US Territories)

Intended effective date: 1 September 2001 Mail Vote

Docket Number: OST-2001-10276

Date Filed: July 30, 2001

Parties: Members of the International Air Transport Association

Subject:

PTC COMP 0842 dated 27 July 2001

Composite Expedited Resolution 015v (excluding USA/US Territories)

Intended effective date: 1 October 2001

Docket Number: OST-2001-10281

Date Filed: July 30, 2001

Parties: Members of the International Air Transport Association

Subject:

PTC123 0147 dated 27 July 2001

Mail Vote 138—Resolution 101j

TC123 North/Mid/South Atlantic

Special Passenger Amending Resolution from Korea (Rep. of)

Intended effective date: 1 August

Docket Number: OST-2001-10311

Date Filed: July 30, 2001

Parties: Members of the International Air Transport Association

Subject:

PTC12 USA-EUR Fares 0061 dated 20 July 2001

Resolution 015h—USA Add-on Amounts between USA and UK.

Intended effective date: 1 October 2001

Cynthia L. Hatten,
Federal Register Liaison.

[FR Doc. 01-20516 Filed 8-14-01; 8:45 am]

BILLING CODE 4910-62-P